DEPARTMENT OF DEFENSE

Office of the Secretary

[Transmittal No. 06-43]

36(b)(1) Arms Sales Notification; Republication

Editorial Note: FR Doc. 06-6728 was originally published at page 44637 in the issue of Monday, August 7, 2006. In that publication a graphic was improperly substituted. The corrected document is republished below in its entirety.

AGENCY: Department of Defense, Defense Security Cooperation Agency.

ACTION: Notice.

SUMMARY: The Department of Defense is publishing the unclassified text of a section 36(b)(1) arms sales notification. This is published to fulfill the requirements of section 155 of Public Law 104-164 dated 21 July 1996.

FOR FURTHER INFORMATION CONTACT: Ms. J. Hurd, DSCA/DBO/ADM, (703) 604-6575.

The following is a copy of a letter to the Speaker of the House of Representatives, Transmittal 06-43 with attached transmittal, policy justification, and Sensitivity of Technology.

Dated: August 1, 2006.
C.R. Choate,
Alternate OSD Federal Register Liaison Officer, Department of Defense.

BILLING CODE 1505-01-D

Editorial Note: FR Doc. 06-6728 was originally published at page 44637 in the issue of Monday, August 7, 2006. In that publication a graphic was improperly substituted. The corrected document is republished in its entirety.

[FR Doc. R6-6728 Filed 8-15-06; 8:45 am]

BILLING CODE 1505-01-C